DEPARTMENT OF LABOR

Employment and Training Administration

[TA-W-50,282]

Cusolar Industries Incorporated, Chesterfield, MI; Notice of Termination of Investigation

Pursuant to section 221 of the Trade Act of 1974, an investigation was initiated on December 9, 2002 in response to a petition filed on December 9, 2002 on behalf of workers at Cusolar Industries, Inc., Chesterfield, Michigan.

The Department has been unable to locate company officials of the subject firm or to obtain the information necessary to reach a determination on worker eligibility. Consequently, further investigation in this case would serve no purpose, and the investigation has been terminated.

Signed in Washington, DC this 31st day of January 2003.
Richard Church,
Certifying Officer, Division of Trade Adjustment Assistance.

[FR Doc. 03-5554 Filed 3-7-03; 8:45 am]

BILLING CODE 4510-30-P